DEPARTMENT OF THE INTERIOR

National Park Service

Notice of Inventory Completion: Oregon State University, Department of Anthropology, Corvallis, OR

AGENCY: National Park Service, Interior.

ACTION: Notice.

Notice is here given in accordance with the Native American Graves Protection and Repatriation Act (NAGPRA), 25 U.S.C. 3003, of the completion of an inventory of human remains in the control of Oregon State University, Department of Anthropology, Corvallis, OR. The human remains were removed from Douglas County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Oregon State University, Department of Anthropology professional staff in consultation with representatives of the Confederated Tribes of the Coos, Lower Umpqua and Siuslaw Indians of Oregon.

In the summer of 1978, human remains representing a minimum of one individual were removed from 35DO83 in Douglas County, OR. No known individual was identified. No associated funerary objects are present.

Site 35DO83 was excavated on privately owned land by Oregon State University archeologists in conjunction with the Confederated Tribes of Coos, Lower Umpqua and Siuslaw of Oregon in 1978. The site includes a prehistoric component and well-documented Lower Umpqua village. Of the human remains discovered at the site, a femur and several teeth were returned to the Confederated Tribes of the Coos, Lower Umpqua and Siuslaw Indians of Oregon during the excavation. The three additional molars were found in the Department of Anthropology's archeology collections in winter 2007. Collection and site records, as well as consultation with archeologists and the tribe, indicate that the human remains are Native American.

According to tribal consultation, 35DO83 is located within the ancestral territory of the Confederated Tribes of the Coos, Lower Umpqua and Siuslaw Indians of Oregon as outlined in Resolution No. 910-010. The site holds significant archeological, oral history, and burial information for the tribes.

Officials of the Oregon State University, Department of Anthropology have determined that, pursuant to 25 U.S.C. 3001 (9-10), the human remains described above represent the physical remains of one individual of Native American ancestry. Officials of the Oregon State University, Department of Anthropology also have determined that, pursuant to 25 U.S.C. 3001 (2), there is a relationship of shared group identity that can be reasonably traced between the Native American human remains and the Confederated Tribes of the Coos, Lower Umpqua and Siuslaw Indians of Oregon.

Representatives of any other Indian tribe that believes itself to be culturally affiliated with the human remains should contact Dr. David McMurray, Oregon State University Department of Anthropology, 238 Waldo Hall, Corvallis, OR 97331, telephone (541) 737-45215, before June 30, 2008. Repatriation of the human remains to the Confederated Tribes of the Coos, Lower Umpqua and Siuslaw Indians of Oregon may proceed after that date if no additional claimants come forward.

Oregon State University, Department of Anthropology is responsible for notifying the Burns Paiute Tribe of the Burns Paiute Indian Colony of Oregon; Confederated Tribes of the Coos, Lower Umpqua and Siuslaw Indians of Oregon; Confederated Tribes of the Grand Ronde Community of Oregon; Confederated Tribes of the Siletz Reservation, Oregon; Confederated Tribes of the Umatilla Indian Reservation, Oregon; Confederated Tribes of the Warm Springs Reservation of Oregon; Coquille Tribe of Oregon; Cow Creek Band of Umpqua Indians of Oregon; Klamath Tribes, Oregon; and Shoalwater Bay Tribe of the Shoalwater Bay Indian Reservation, Washington that this notice has been published.

Dated: March 31, 2008
Sherry Hutt,
Manager, National NAGPRA Program.

[FR Doc. E8-11991 Filed 5-28-08; 8:45 am]

BILLING CODE 4312-50-S